DEPARTMENT OF COMMERCE

National Oceanic and Atmospheric Administration

RIN 0648-XG406

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Surfclam and Ocean Quahog Advisory Panel will hold a public meeting.

DATES: The meeting will be held on Wednesday, September 5, 2018, from 10 a.m. until 4 p.m.

ADDRESSES: The meeting will be held at the Embassy Suites by Hilton—Philadelphia Airport, 9000 Bartram Ave., Philadelphia, Pennsylvania; telephone: (215) 365-4500.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's (MAFMC's) Surfclam and Ocean Quahog Advisory Panel will meet to provide feedback on the Public Hearing Document for the Surfclam and Ocean Quahog Excessive Shares Amendment. An agenda and background documents will be posted at the Council's website (www.mafmc.org) prior to the meeting. The meeting is physically accessible to people with disabilities. Requests for sign language interpretation or other auxiliary aid should be directed to M. Jan Saunders, (302) 526-5251, at least 5 days prior to the meeting date.

Dated: August 8, 2018.
Tracey L. Thompson,
Acting Deputy Director, Office of Sustainable Fisheries, National Marine Fisheries Service.

[FR Doc. 2018-17326 Filed 8-10-18; 8:45 am]

BILLING CODE 3510-22-P